DEPARTMENT OF THE INTERIOR

National Park Service

Notice of Availability of the Final General Management Plan/Environmental Impact Statement for Pipestone National Monument, MN

AGENCY: National Park Service, Department of the Interior.

SUMMARY: Pursuant to Section 102(2) (C) of the National Environmental Policy Act of 1969 (42 U.S.C. 4332(2) (C)), the National Park Service (NPS) announces the issuance of the Notice of Availability of the final General Management Plan/Environmental Impact Statement (GMP/EIS) for Pipestone National Monument, Minnesota.

DATES: The final GMP/EIS will remain available for public review for 30 days following the publishing of the notice of its availability in the Federal Register by the U.S. Environmental Protection Agency.

ADDRESSES: Requests for copies should be sent to the Acting Superintendent, Pipestone National Monument, 36 Reservation Avenue, Pipestone, Minnesota 56164-1269. You may also view the document via the Internet through the NPS Planning, Environment, and Public Comment Web site (http://parkplanning.nps.gov); simply click on the link to Pipestone National Monument.

SUPPLEMENTARY INFORMATION: The NPS prepared a draft GMP/EIS for the Pipestone National Monument (national monument), pursuant to Section 102(2) (C) of the National Environmental Policy Act of 1969. The draft was made available for public review for 111 days (January 28—May 18, 2007) during which time the NPS distributed over 275 copies of the draft. The draft was also made available at the park offices, on the Internet, and at area libraries. Over 85 people attended the 7 public open houses and meetings. Twenty-five written comment letters were received from Agencies, organizations, Tribes, and the public. Comments from Tribes, individuals, and public agencies caused the NPS to reconsider the preferred alternative and the environmentally preferred alternative.

The preferred alternative will remove most of the development from the heart of the national monument, retaining only those small facilities necessary to support quarrying and for public health and safety. Subsequent planning will determine whether to place visitor support services within or adjacent to the boundary. The maintenance area will move to a shared offsite location with another Governmental Agency and museum collections/archives will be removed from the floodplain. American Indian ceremonial use of the site continues, and the NPS will cooperatively work to preserve the historic Indian School Superintendent's House with the owners and to restore prairie on adjacent property with the Minnesota Department of Natural Resources and the U.S. Fish and Wildlife Service.

FOR FURTHER INFORMATION CONTACT: Contact the Acting Superintendent, Pipestone National Monument, 36 Reservation Avenue, Pipestone, Minnesota 56164-1269, telephone 507-825-5464.

Dated: March 12, 2008.
Ernest Quintana,
Regional Director, Midwest Region.

[FR Doc. E8-6334 Filed 3-27-08; 8:45 am]

BILLING CODE 4312-AA-M